DEPARTMENT OF COMMERCE

Foreign-Trade Zones Board

[S-107-2014]

Approval of Subzone Status; Southern Motion, Inc.; Pontotoc and Baldwyn, Mississippi

On August 7, 2014, the Executive Secretary of the Foreign-Trade Zones (FTZ) Board docketed an application submitted by the Greater Mississippi Foreign-Trade Zone, Inc., grantee of FTZ 158, requesting subzone status subject to the existing activation limit of FTZ 158 on behalf of Southern Motion, Inc., in Pontotoc and Baldwyn, Mississippi.

The application was processed in accordance with the FTZ Act and Regulations, including notice in the Federal Register inviting public comment (79 FR 47436, August 13, 2014). The FTZ staff examiner reviewed the application and determined that it meets the criteria for approval.

Pursuant to the authority delegated to the FTZ Board's Executive Secretary (15 CFR 400.36(f)), the application to establish Subzone 158G is approved, subject to the FTZ Act and the Board's regulations, including Section 400.13, and further subject to FTZ 158's 2,000-acre activation limit.

Dated: September 30, 2014.
Andrew McGilvray,
Executive Secretary.

[FR Doc. 2014-23665 Filed 10-2-14; 8:45 am]

BILLING CODE 3510-DS-P